DEPARTMENT OF COMMERCE

Submission for OMB Review; Comment Request

DOC has submitted to the Office of Management and Budget (OMB) for clearance the following proposal for collection of information under the provisions of the Paperwork Reduction Act of 1995, Public Law 104-13.

Bureau: International Trade Administration.

Title: NATO International Competitive Bidding (ICB) Bidders List Application.

Agency Form Number: ITA-4023P.

OMB Number: 0625-0055.

Type of Request: Regular Submission.

Estimated Burden: 40 hours.

Estimated Number of Respondents: 40.

Est. Avg. Hours Per Response: 1 hour.

Needs and Uses: Opportunities to bid for contracts under the NATO Security Investment Program (NSIP) are only open to firms of member NATO countries. NSIP procedures for international competitive bidding (AC/4-D/2261) require that each NATO country certify that their respective firms are eligible to bid such contracts. This is done through the issuance of a “Declaration of Eligibility.” The U.S. Department of Commerce/ITA is the executive agency responsible for certifying U.S. firms. ITA-4023P is the application form used by USDOC/ITA to collect information needed to ascertain the eligibility of a U.S. firm. ITA reviews the application for completeness and accuracy and determines a company's eligibility based on its financial viability, technical capability, and security clearances with the Department of Defense.

Affected Public: Business or other for-profits.

Frequency: On occasion.

Respondent's Obligation: Required to obtain or retain benefits, voluntary.

OMB Desk Officer: David Rostker, (202) 395-7340.

Copies of the above information collection proposal can be obtained by calling or writing Madeleine Clayton, Departmental Paperwork Clearance Officer, (202) 482-3129, Department of Commerce, Room 6086, 14th and Constitution, NW., Washington, DC 20230.

Written comments and recommendations for the proposed information collection should be sent to David Rostker, OMB Desk Officer, Room 10202, New Executive Office Building, Washington, DC 20503 within 30 days of the publication of this notice in the Federal Register.

Dated: July 13, 2001.
Madeleine Clayton,
Departmental Paperwork Clearance Officer, Office of the Chief Information Officer.

[FR Doc. 01-17968 Filed 7-17-01; 8:45 am]

BILLING CODE 3510-DR-P